DEPARTMENT OF COMMERCE

National Oceanic and Atmospheric Administration

Agency Information Collection Activities; Submission to the Office of Management and Budget (OMB) for Review and Approval; Comment Request; NOAA Fisheries Greater Atlantic Region Gear Identification Requirements

The Department of Commerce will submit the following information collection request to the Office of Management and Budget (OMB) for review and clearance in accordance with the Paperwork Reduction Act of 1995, on or after the date of publication of this notice. We invite the general public and other Federal agencies to comment on proposed, and continuing, information collections, which helps us assess the impact of our information collection requirements and minimize the public's reporting burden. Public comments were previously requested via the Federal Register on April 2, 2024, during a 60-day comment period. This notice allows for an additional 30 days for public comments.

Agency: National Oceanic and Atmospheric Administration (NOAA), Commerce.

Title: NOAA Fisheries Greater Atlantic Gear Identification Requirements.

OMB Control Number: 0648-0351.

Form Number(s): None.

Type of Request: Regular submission (extension of a current information collection).

Number of Respondents: 2,307.

Average Hours per Response: 1 minute per string of gear.

Total Annual Burden Hours: 9,571.

Needs and Uses: This request would extend an approved information collection regarding Greater Atlantic Region fishing gear marking requirements. There are no changes to the gear marking requirements in this collection.

Under the Magnuson-Stevens Fishery Conservation and Management Act (Magnuson-Stevens Act), the Secretary of Commerce (Secretary) is responsible for the conservation and management of marine fishery resources. The Secretary has delegated much of this responsibility to the National Oceanic and Atmospheric Administration (NOAA)/National Marine Fisheries Service (NMFS). The Magnuson-Stevens Act gives the Secretary and NOAA certain regulatory authorities to ensure the most beneficial uses of marine fishery resources. One of the regulatory steps taken to carry out the conservation and management objectives is to collect data from users of the resource.

Regulations at 50 CFR 648.84(a),(b), and (d), 648.125(b)(3), 648.144(b)(1), 648.264(a)(5), and 697.21(a) and (b) require Federal permit holders using certain types of fishing gear to mark the gear with information necessary to identify the vessel and gear (e.g., hull identification number, Federal fishing vessel permit number). The regulations also specify gear marking requirements for visibility (e.g., buoys, radar reflectors). These gear marking requirements aid in fishery law enforcement, support safe navigation by increasing gear visibility, and help prevent gear conflicts by providing gear type information to other fisherman.

The number of end lines associated with each string of hooks, pots, or traps determine the quantity of gear in this collection. A single Federal permit holder may be responsible for marking several strings of a given gear type and may use multiple gear types that require marking.

Affected Public: Business or other for-profit organizations.

Frequency: Annual.

Respondent's Obligation: Mandatory.

Legal Authority: 50 CFR 648.84(a), (b), and (d), 648.125(b)(3), 648.144(b)(1), 648.264(a)(5), and 697.21(a) and (b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0351.

Sheleen Dumas,
Department PRA Clearance Officer, Office of the Under Secretary for Economic Affairs, Commerce Department.

[FR Doc. 2024-12880 Filed 6-11-24; 8:45 am]

BILLING CODE 3510-22-P